DEPARTMENT OF LABOR

Employment and Training Administration

[Docket No. NAFTA-03610 and 03610A]

GL&V/Dorr-Oliver, Inc., Hazleton, Pennsylvania and Milford, Connecticut; Amended Certification Regarding Eligibility To Apply for NAFTA-Transitional Adjustment Assistance

In accordance with Section 250(A), Subchapter D, Chapter 2, Title II, of the Trade Act of 1974 (19 USC 2273), the Department of Labor issued a Certification for NAFTA Transitional Adjustment Assistance on January 13, 2000, applicable to workers of GL&V/Dorr-Oliver, Inc., Hazleton, Pennsylvania. The notice was published in the Federal Register on February 4, 2000 (65 FR 5691).

At the request of the company, the Department reviewed the certification for workers of the subject firm. The company reports that worker separations occurred at the Milford, Connecticut location of GL&V/Dorr-Oliver, Inc. The Milford, Connecticut workers provide administrative functions, designing and customer services to support the production of filtration equipment at the Hazleton, Pennsylvania facility.

The intent of the Department’s certification is to include all workers of GL&V/Dorr-Oliver, Inc. who were adversely affected by increased imports from Canada.

Accordingly, the Department is amending the certification to include worker, of GL&V/Dorr-Oliver, Inc., Milford, Connecticut.

The amended notice applicable to NAFTA—03610 is hereby issued as follows:

All workers of GL&V/Dorr-Oliver, Inc., Hazleton, Pennsylvania (NAFTA-03610) and Milford, Connecticut (NAFTA-3610A) who became totally or partially separated from employment on or after November 23, 1998 through January 13, 2002 are eligible to apply for NAFTA-TAA under Section 250 of the Trade Act of 1974.

Signed at Washington, DC this 24th day of March, 2000.
Grant D. Beale,
Program Manager, Division of Trade Adjustment Assistance.

[FR Doc. 00-8241 Filed 4-3-00; 8:45 am]

BILLING CODE 4510-30-M